EXPORT-IMPORT BANK

2017 Exim Bank Advisory Committee Nomination Process

Nominations are now being accepted for EXIM Bank's 2017 Advisory Committee. The Congressionally-established Advisory Committee holds quarterly meetings in which its primary task is to advise the Bank concerning its policy and programs, in particular on the extent to which the Bank is meeting its mandate to provide competitive financing that equips U.S. exporters to compete for business in the global marketplace. Pending approval by EXIM's Board of Directors, the first meeting of the 2017 Advisory Committee is scheduled to be held in late January 2017.

The nomination period will be open for four weeks beginning Wednesday, November 16-Friday, December 16, 2016.

Companies and supporters of potential nominees must submit a letter on company letterhead stating reasons why their candidate should be considered for the Advisory Committee. Self-nominations are permitted. All nomination forms must be completed and signed by all potential candidates.

All nominations are due COB Friday, December 16, 2016. Please email the candidate questionnaire form and additional information including supporter letters on letterhead to: tia.pitt@exim.gov.

Attachment

Candidate Questionnaire Form

Joyce B. Stone,
Program Specialist, Office of the General Counsel.

[FR Doc. 2016-27870 Filed 11-18-16; 8:45 am]

BILLING CODE 6690-01-P